DEPARTMENT OF ENERGY

10 CFR Part 430

[Docket Number EERE-2014-BT-STD-0031]

RIN 1904-AD20

Energy Conservation Program for Consumer Products: Energy Conservation Standards for Residential Furnaces

AGENCY: Office of Energy Efficiency and Renewable Energy, Department of Energy.

ACTION: Notice of public meeting.

SUMMARY: The Department of Energy (DOE) is planning to hold a public meeting to demonstrate the analytical tools developed by the agency in support of a proposed rule to consider amended energy conservation standards for residential non-weatherized gas furnaces and mobile home gas furnaces.

DATES: Meeting: DOE will hold a public meeting on Friday, November 7, 2014 from 9:00 a.m. to 1:00 p.m. in Washington, DC. In addition, DOE plans to broadcast the public meeting via webinar. You may attend the public meeting either in person or via webinar. Registration information, participant instructions, and information about the capabilities available to webinar participants will be published in advance on DOE's Web site at: http://www1.eere.energy.gov/buildings/appliance_standards/product.aspx/productid/72. Webinar participants are responsible for ensuring their systems are compatible with the webinar software.

ADDRESSES: The public meeting will be held at the U.S. Department of Energy, Forrestal Building, Room 4A-104, 1000 Independence Avenue SW., Washington, DC 20585. To attend, please notify Ms. Brenda Edwards at (202) 586-2945. Please note that foreign nationals visiting DOE Headquarters are subject to advance security screening procedures. Any foreign national wishing to participate in the meeting should advise DOE as soon as possible by contacting Ms. Edwards to initiate the necessary procedures. Please also note that any person wishing to bring a laptop into the Forrestal Building will be required to obtain a property pass. Visitors should avoid bringing laptops, or allow an extra 45 minutes. Persons may also attend the public meeting via webinar.

Due to the REAL ID Act implemented by the Department of Homeland Security (DHS), there have been recent changes regarding identification (ID) requirements for individuals wishing to enter Federal buildings from specific States and U.S. territories. As a result, driver's licenses from the following States or territory will not be accepted for building entry, and instead, one of the alternate forms of ID listed below will be required.

DHS has determined that regular driver's licenses (and ID cards) from the following jurisdictions are not acceptable for entry into DOE facilities: Alaska, American Samoa, Arizona, Louisiana, Maine, Massachusetts, Minnesota, New York, Oklahoma, and Washington. Acceptable alternate forms of Photo-ID include: U.S. Passport or Passport Card; an Enhanced Driver's License or Enhanced ID-Card issued by the States of Minnesota, New York or Washington (Enhanced licenses issued by these States are clearly marked Enhanced or Enhanced Driver's License); a military ID or other Federal government-issued Photo-ID card.

FOR FURTHER INFORMATION CONTACT: Mr. John Cymbalsky, U.S. Department of Energy, Office of Energy Efficiency and Renewable Energy, Building Technologies Office, EE-5B, 1000 Independence Avenue SW.,Washington, DC 20585-0121. Telephone: (202) 287-1692. Email: John.Cymbalsky@ee.doe.gov.

Mr. Eric Stas, U.S. Department of Energy, Office of the General Counsel, GC-33, 1000 Independence Avenue SW., Washington, DC 20585. Telephone: (202) 586-9507, Email: Eric.Stas@hq.doe.gov.

For information on how to attend the public meeting, contact Ms. Brenda Edwards, U.S. Department of Energy, Office of Energy Efficiency and Renewable Energy, Building Technologies Office, 1000 Independence Avenue SW., Washington, DC 20585-0121. Telephone: (202) 586-2945. Email: Brenda.Edwards@ee.doe.gov.

SUPPLEMENTARY INFORMATION: The Department of Energy (DOE) is holding a public meeting to demonstrate the analytical tools developed by the agency in support of a notice of proposed rule (NOPR) to consider amended energy conservation standards for residential non-weatherized gas furnaces and mobile home gas furnaces.

On April 24, 2014, the U.S. Court of Appeals for the District of Columbia Circuit issued an order adopting a settlement agreement in litigation that, among other things, vacated DOE's minimum energy conservation standards for residential non-weatherized gas furnaces and mobile home gas furnaces and remanded the proceeding back to DOE for further rulemaking regarding those products. The settlement agreement included a provision that, “In the rulemaking on remand, DOE will make available to the public the data gathered and analyzed by the agency prior to publication of a proposed rule. DOE will endeavor to post such data as they become available during the agency's development of a proposed rule. At a minimum, the agency will make such data available to the public within 30 days after the Office of Management and Budget receives a draft proposed rule from DOE.”

In fulfillment of that obligation, DOE released the following documents on DOE's Web site at: http://www.regulations.gov/#!docketBrowser;rpp=25;po=0;dct=SR%252BO;D=EERE-2014-BT-STD-0031.

• Preliminary draft NOPR life-cycle cost spreadsheet;

• Preliminary NOPR national impact analysis spreadsheet; and

• Preliminary NOPR Government Regulatory Impact Model.

The scheduled meeting is intended to demonstrate to interested parties DOE's analytical tools and to provide them with an opportunity to ask questions and offer feedback for DOE to consider in its use of the analytical tools, as applied in each energy conservation standards rulemaking. While DOE will demonstrate these analytical tools with the content provided in the residential non-weatherized gas furnace and mobile home gas furnace rulemaking, and will entertain questions related to that content, the public meeting will not address any deliberative issues related to that specific rulemaking docket. DOE will hold a public meeting to solicit comment on any proposal to amend standards for residential non-weatherized gas furnaces and mobile home gas furnaces after a proposed rule concerning those furnaces has been issued. A court reporter will be present at the meeting to record the proceedings and to prepare a transcript. A transcript of the public meeting will be posted on the DOE Web site and will be included in the docket for this rulemaking. In addition, any person may buy a copy of the transcript from the transcribing reporter.

Issued in Washington, DC, on October 23, 2014.
Kathleen B. Hogan,
Deputy Assistant Secretary for Energy Efficiency, Energy Efficiency and Renewable Energy.

[FR Doc. 2014-25814 Filed 10-29-14; 8:45 am]

BILLING CODE 6450-01-P